DEPARTMENT OF ENERGY

Federal Energy Regulatory Commission

[Docket No. RP00-157-011]

Kern River Gas Transmission Company; Notice of Negotiated Rates

April 3, 2003.

Take notice that on March 31, 2003, Kern River Gas Transmission Company (Kern River) tendered for filing as part of its FERC Gas Tariff, Second Revised Volume No. 1, the following tariff sheets, to be effective April 1, 2003.

Fifth Revised Sheet No. 495.

Second Revised Sheet No. 496.

First Revised Sheet No. 497.

Kern River states that the purpose of this filing is to implement a negotiated rate transaction between Kern River and Sempra Energy Trading Corporation, in accordance with the Commission's Policy Statement on alternatives to Traditional Cost of Service Ratemaking for Natural Gas Pipelines, and to reference the agreement in Kern River's tariff.

Kern River states that it has served a copy of this filing upon its customers and interested state regulatory commissions.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-8773 Filed 4-9-03; 8:45 am]

BILLING CODE 6717-01-P